DEPARTMENT OF THE INTERIOR

Fish and Wildlife Service

[FWS-R1-ES-2016-N064; FXES11130100000-167-FF01E00000]

Endangered Species; Recovery Permit Applications

AGENCY: Fish and Wildlife Service, Interior.

ACTION: Notice of availability; request for comments.

SUMMARY: We, the U.S. Fish and Wildlife Service, invite the public to comment on the following applications for recovery permits to conduct activities with the purpose of enhancing the survival of endangered species. The Endangered Species Act of 1973, as amended (Act), prohibits certain activities with endangered species unless a Federal permit allows such activity. The Act also requires that we invite public comment before issuing such permits.

DATES: To ensure consideration, please send your written comments by May 16, 2016.

ADDRESSES: Program Manager, Restoration and Endangered Species Classification, Ecological Services, U.S. Fish and Wildlife Service, Pacific Regional Office, 911 NE 11th Avenue, Portland, OR 97232-4181. Please refer to the permit number for the application when submitting comments.

FOR FURTHER INFORMATION CONTACT: Colleen Henson, Fish and Wildlife Biologist, at the above address, or by telephone (503-231-6131) or fax (503-231-6243).

SUPPLEMENTARY INFORMATION:

Background

The Act (16 U.S.C. 1531 et seq.) prohibits certain activities with respect to endangered and threatened species unless a Federal permit allows such activity. Along with our implementing regulations in the Code of Federal Regulations (CFR) at 50 CFR 17, the Act provides for certain permits, and requires that we invite public comment before issuing these permits for endangered species.

A permit granted by us under section 10(a)(1)(A) of the Act authorizes the permittee to conduct activities (including take or interstate commerce) with respect to U.S. endangered or threatened species for scientific purposes or enhancement of propagation or survival. Our regulations implementing section 10(a)(1)(A) of the Act for these permits are found at 50 CFR 17.22 for endangered wildlife species, 50 CFR 17.32 for threatened wildlife species, 50 CFR 17.62 for endangered plant species, and 50 CFR 17.72 for threatened plant species.

Applications Available for Review and Comment

We invite local, State, and Federal agencies and the public to comment on the following applications. Please refer to the permit number for the application when submitting comments.

Documents and other information submitted with these applications are available for review by request from the Program Manager for Restoration and Endangered Species Classification at the address listed in the ADDRESSES section of this notice, subject to the requirements of the Privacy Act (5 U.S.C. 552a) and the Freedom of Information Act (5 U.S.C. 552).

Permit Number: TE-041672

Applicant: U.S. Army Corps of Engineers, Eugene, Oregon.

The applicant requests a permit amendment to take (survey, capture, and release) the Fender's blue butterfly (Icaricia icarioides fenderi) in conjunction with monitoring and habitat restoration activities, and to remove/reduce to possession Erigeron decumbens (Willamette daisy) and Lomatium bradshawii (Bradshaw's desert parsley) in conjunction with population augmentation in Lane County, Oregon, for the purpose of enhancing the species' survival.

Permit Number: TE-66384A

Applicant: Idaho Department of Fish and Game, Coeur d'Alene, Idaho.

The applicant requests a permit renewal with changes to take (capture, collect eggs, sample fin rays, tag, sacrifice, cull, and release) the Kootenai River white sturgeon (Acipenser transmontanus) in conjunction with spawning, recruitment, monitoring, and population studies in Idaho and Montana, for the purpose of enhancing the species' survival.

Permit Number: TE-84876A

Applicant: Andersen Air Force Base, Yigo, Guam.

The applicant requests a permit amendment to take (survey, capture, monitor nests, collect tissue samples, tag, and release) green sea turtles (Chelonia mydas) and hawksbill sea turtles (Eretmochelys imbricata) in conjunction with scientific research, and to remove/reduce to possession the following plants: Eugenia bryanii (no common name), Heritiera longipetiolata (Ufa halumtanu, Ufa halom tano), Psychotria malaspinae (Aplokating palaoan), Serianthes nelsonii (Hayun lagu), Solanum guamense (Biringenas halumtanu, Birengenas halom tano), and Tinospora homosepala (no common name), in conjunction with captive propagation and outplanting on the island of Guam for the purpose of enhancing the species' survival.

Permit Number: TE-91851B

Applicant: Washington State University, Pullman, Washington.

The applicant requests a permit to take (capture, radio-collar, release, and monitor) gray wolves (Canis lupus) in conjunction with scientific research in Okanogan and Kittitas Counties, Washington, for the purpose of enhancing the species' survival.

Permit Number: TE-210255

Applicant: Montana Fish, Wildlife and Parks, Libby, Montana.

The applicant requests a permit renewal with changes to take (capture, hold, mark, passive-integrated-transponder (PIT) and sonic tag, collect blood and biological samples, and release) the Kootenai River white sturgeon (Acipenser transmontanus) in conjunction with scientific research in the Kootenai River, Lincoln County, Montana, for the purpose of enhancing the species' survival.

Permit Number: TE-22353B

Applicant: Center for Natural Lands Management, Temecula, California.

The applicant requests a permit amendment to take (conduct habitat restoration activities, survey, and monitor) the Taylor's checkerspot butterfly (Euphydryas editha taylori) in Oregon and Washington for the purpose of enhancing the species' survival.

Public Availability of Comments

All comments and materials we receive in response to this request will be available for public inspection, by appointment, during normal business hours at the address listed in the ADDRESSES section.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Dated: April 5, 2016.
Theresa E Rabot,
Regional Director, Pacific Region, U.S. Fish and Wildlife Service.

[FR Doc. 2016-08725 Filed 4-14-16; 8:45 am]

BILLING CODE 4333-15-P